DEPARTMENT OF COMMERCE

National Oceanic and Atmospheric Administration

RIN 0648-XH017

Mid-Atlantic Fishery Management Council (MAFMC); Meeting

AGENCY: National Marine Fisheries Service (NMFS), National Oceanic and Atmospheric Administration (NOAA), Commerce.

ACTION: Notice; public meeting.

SUMMARY: The Council's Atlantic Mackerel, Squid, and Butterfish (MSB) Monitoring Committee will meet via webinar to develop recommendations for future MSB specifications.

DATES: The meeting will be held on May 21, 2019, from 9 a.m. to 12:30 p.m.

ADDRESSES: The meeting will be held via webinar with an audio-only connection option. Details on the proposed agenda, connection information, and briefing materials will be posted at the MAFMC's website: www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council's MSB Monitoring Committee will develop recommendations for future MSB specifications (including the mackerel fishery's river herring and shad cap). Those recommendations will be considered by the Council at separately-noticed future meetings. An agenda and background documents will be posted at the Council's website (www.mafmc.org) prior to the meeting.

Special Accommodations

The meeting is physically accessible to people with disabilities. Requests for sign language interpretation or other auxiliary aid should be directed to M. Jan Saunders, (302) 526-5251, at least 5 days prior to any meeting date.

Dated: April 30, 2019.
Rey Israel Marquez,
Acting Deputy Director, Office of Sustainable Fisheries, National Marine Fisheries Service.

[FR Doc. 2019-09078 Filed 5-2-19; 8:45 am]

BILLING CODE 3510-22-P